DEPARTMENT OF ENERGY

Federal Energy Regulatory Commission

[Docket No. CP22-503-000; Docket No. CP22-502-000]

Columbia Gas Transmission, LLC, Transcontinental Gas Pipe Line Company, LLC; Notice of Availability of the Final Environmental Impact Statement for the Proposed Virginia Reliability Project Commonwealth Energy Connector Project

The staff of the Federal Energy Regulatory Commission (FERC or Commission) has prepared a final environmental impact statement (EIS) for the Virginia Reliability Project (VRP), proposed by Columbia Gas Transmission, LLC (Columbia), and the Commonwealth Energy Connector Project (CEC Project) proposed by Transcontinental Gas Pipe Line Company, LLC (Transco) in the above-referenced dockets.

Columbia requests authorization to construct and operate its VRP in Greensville, Prince George, Sussex, Surry, Southampton, and Isle of Wight Counties, Virginia, and in the cities of Suffolk and Chesapeake, Virginia. The VRP is designed to provide an additional 100,000 Dekatherms per day (Dth/d) of firm transportation service for Virginia Natural Gas, Inc. (VNG), from the existing interconnection between Transco and Columbia in Greensville County, Virginia to VNG's existing delivery point in Chesapeake County, Virginia.

Transco requests authorization to construct, operate, and maintain its CEC Project in Mecklenburg, Brunswick, and Greensville Counties, Virginia. The CEC Project is designed to provide an additional 105,000 Dth/d of firm transportation service for VNG from Transco's existing Station 165 Zone 5 Pooling Point in Pittsylvania County, Virginia, to the existing interconnection between Transco and Columbia in Greensville County, Virginia, where VNG has contracted with Columbia for further firm transportation service.

The final EIS assesses the potential environmental effects of the construction and operation of the VRP and the CEC Project (the Projects) in accordance with the requirements of the National Environmental Policy Act (NEPA). The FERC staff concludes that approval of the proposed Projects, with the mitigation measures recommended in the EIS, would result in some adverse environmental impacts; however, with the exception of potential impacts on climate change, FERC staff concludes that impacts would not be significant. Climate change impacts are not characterized in the EIS as significant or insignificant.

The U.S. Army Corps of Engineers (USACE), Norfolk District, and the U.S. Fish and Wildlife Service (USFWS) participated as cooperating agencies in the preparation of the EIS. Cooperating agencies have jurisdiction by law or special expertise with respect to resources potentially affected by the proposal and participate in the NEPA analysis. Although these agencies provided input to the conclusions and recommendations presented in the EIS, the agencies may present their own conclusions and recommendations in any applicable Records of Decision or other documentation for the Projects.

The final EIS addresses the potential environmental effects of the construction and operation of the following VRP facilities, all in Virginia:

• replacement of about 49.2 miles of the existing 12-inch-diameter VM-107 and VM-108 pipelines with 24-inch-diameter pipeline mostly within Columbia's existing right-of-way, in Sussex, Surry, Southampton, and Isle of Wight Counties, as well as in the cities of Suffolk and Chesapeake;

• installation of one new 5,500-horsepower (HP) dual-drive compressor unit at the existing Emporia Compressor Station in Greensville County;

• modification of the existing compressor units and an increase in power by 2,700 HP at the existing Petersburg Compressor Station in Prince George County;

• modification of the Emporia Point of Receipt in Greensville County, Regulator Station 7423 in Prince George County, and MS-831010 Point of Delivery in Chesapeake; and

• replacement of eight mainline valves (MLV), installation of one new MLV and five new launchers/receivers, and replacement or installation of other minor appurtenant facilities.

The final EIS addresses the potential environmental effects of the construction and operation of the following CEC Project facilities, all in Virginia:

• construction of a 6.35-mile-long, 24-inch-diameter pipeline loop ¹ (referred to as the Commonwealth Loop), including valve and launcher/receiver facilities, in Brunswick and Greensville Counties;

¹ A pipeline loop is a segment of pipe constructed parallel to an existing pipeline to increase capacity.

• addition of a 33,000-HP electric motor-driven compressor unit at the existing Compressor Station 168 in Mecklenburg County; and

• modification of the existing Emporia Metering and Regulation Station in Greensville County.

The Commission mailed a copy of the Notice of Availability to Federal, State, and local government representatives and agencies; elected officials; environmental and public interest groups; Native American Tribes; potentially affected landowners and other interested individuals and groups; and newspapers and libraries in the area of the Projects. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field, excluding the last three digits (i.e., CP22-503 or CP22-502). Be sure you have selected an appropriate date range. For assistance, please contact FERC Online Support at FercOnlineSupport@ferc.gov or toll free at (866) 208-3676, or for TTY, contact (202) 502-8659.

Additional information about the Projects is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: September 15, 2023.
Kimberly D. Bose
Secretary.

[FR Doc. 2023-20458 Filed 9-20-23; 8:45 am]

BILLING CODE 6717-01-P